Proclamation 8118 of March 28, 2007

National Donate Life Month, 2007

By the President of the United States of America

A Proclamation

Donating organs, marrow, and tissue is a kind and compassionate act that can protect and enhance the precious gift of life. During National Donate Life Month, we recognize the generosity of donors and raise awareness of the importance of donating.

In recent years, there has been great progress in this important effort, and the rate of organ donation has steadily increased—helping save thousands of lives. Despite this success, more than 95,000 Americans currently await organ transplants, and hundreds more are added to the transplant list each month. My Administration strongly supports organ, marrow, and tissue donation, and we are working with public and private groups to help more citizens understand the impact of organ donation.

Americans who wish to become organ and tissue donors can register with their State's donor registry, designate their intent on their driver's license, and sign and carry donor cards, which are available at organdonor.gov. I urge all citizens to consider becoming donors and encourage all donors to inform their loved ones of their decision so their wishes can be fulfilled. Every human life holds inherent dignity and matchless value, and National Donate Life Month is an opportunity to celebrate our country's organ and tissue donors. The decision to donate the gift of life demonstrates the compassionate spirit of our Nation.

NOW, THEREFORE, I, GEORGE W. BUSH, President of the United States of America, by virtue of the authority vested in me by the Constitution and laws of the United States, do hereby proclaim April 2007 as National Donate Life Month. I call upon health care professionals, volunteers, educators, government agencies, faith-based and community groups, and private organizations to help raise awareness of the urgent need for organ and tissue donors throughout our Nation.

IN WITNESS WHEREOF, I have hereunto set my hand this twenty-eighth day of March, in the year of our Lord two thousand seven, and of the Independence of the United States of America the two hundred and thirty-first.

[FR Doc. 07-1627

Filed 3-29-07; 11:45 am]

Billing code 3195-01-P